JUDICIAL CONFERENCE OF THE UNITED STATES

Revision of Certain Dollar Amounts in the Bankruptcy Code Prescribed Under Section 104(a) of the Code

AGENCY: Judicial Conference of the United States.

ACTION: Notice.

SUMMARY: Pursuant to section 104 of Title 11, United States Code, certain dollar amounts in title 11 and title 28, United States Code, are increased.

FOR FURTHER INFORMATION CONTACT: Michele Reed, Chief, Judicial Services Office, Administrative Office of the United States Courts, Washington, DC 20544, Telephone (202) 502-1800, or by email at Judicial_Services_Office@ao.uscourts.gov.

SUPPLEMENTARY INFORMATION: Section 104(a) of title 11, United States Code, provides the mechanism for an automatic three-year adjustment of dollar amounts in certain sections of titles 11 and 28. Public Law 95-598 (1978); Public Law 103-394 (1994); Public Law 109-8 (2005); and Public Law 110-406 (2008). The provision states:

(a) On April 1, 1998, and at each 3-year interval ending April 1 thereafter, each dollar amount in effect under sections 101(3), 101(18), 101(19A), 101(51D), 109(e), 303(b), 507(a), 522(d), 522(f)(3) and 522(f)(4), 522(n), 522(p), 522(q), 523(a)(2)(C), 541(b), 547(c)(9), 707(b), 1322(d), 1325(b), and 1326(b)(3) of this title and section 1409(b) of title 28 immediately before such April 1 shall be adjusted—

(1) to reflect the change in the Consumer Price Index for All Urban Consumers, published by the Department of Labor, for the most recent 3-year period ending immediately before January 1 preceding such April 1, and

(2) to round to the nearest $25 the dollar amount that represents such change.

(b) Not later than March 1, 1998, and at each 3-year interval ending on March 1 thereafter, the Judicial Conference of the United States shall publish in the Federal Register the dollar amounts that will become effective on such April 1 under sections 101(3), 101(18), 101(19A), 101(51D), 109(e), 303(b), 507(a), 522(d), 522(f)(3) and 522(f)(4), 522(n), 522(p), 522(q), 523(a)(2)(C), 541(b), 547(c)(9), 707(b), 1322(d), 1325(b), and 1326(b)(3) of this title and section 1409(b) of title 28.

(c) Adjustments made in accordance with subsection (a) shall not apply with respect to cases commenced before the date of such adjustments.

Revision of Certain Dollar Amounts in Bankruptcy Code

Notice is hereby given that the dollar amounts are increased in the sections in title 11 and title 28, United States Code, as set out in the following chart. These increases do not apply to cases commenced before the effective date of the adjustments, April 1, 2019. Seven Official Bankruptcy Forms (106C, 107, 122A-2, 122C-2, 201, 207, and 410) and two Director's Forms (2000 and 2830), also will be amended to reflect these adjusted dollar amounts.

Dated: February 5, 2019.
Michele Reed,
Chief, Judicial Services Office.

Affected sections of Title 28 U.S.C. and the bankruptcy code | Dollar amount to be adjusted | New (adjusted) dollar amount ¹
28 U.S.C.
Section 1409(b)—a trustee may commence a proceeding arising in or related to a case to recover
(1)—money judgment of or property worth less than | $1,300 | $1,375
(2)—a consumer debt less than | 19,250 | 20,450
(3)—a non consumer debt against a non insider less than | 12,850 | 13,650
11 U.S.C.
Section 101(3)—definition of assisted person | 192,450 | 204,425
Section 101(18)—definition of family farmer | (*) 4,153,150 | (*) 4,411,400
Section 101(19A)—definition of family fisherman | (*) 1,924,550 | (*) 2,044,225
Section 101(51D)—definition of small business debtor | (*) 2,566,050 | (*) 2,725,625
Section 109(e)—debt limits for individual filing bankruptcy under chapter 13 | (*) 394,725 | (*) 419,275
| (*) 1,184,200 | 1,257,850
Section 303(b)—minimum aggregate claims needed for the commencement of an involuntary chapter 7 or 11 petition
(1)—in paragraph (1) | 15,775 | 16,750
(2)—in paragraph (2) | 15,775 | 16,750
Section 507(a)—priority expenses and claims
(1)—in paragraph (4) | 12,850 | 13,650
(2)—in paragraph (5)(B)(i) | 12,850 | 13,650
(3)—in paragraph (6)(B) | 6,325 | 6,725
(4)—in paragraph (7) | 2,850 | 3,025
Section 522(d)—value of property exemptions allowed to the debtor
(1)—in paragraph (1) | 23,675 | 25,150
(2)—in paragraph (2) | 3,775 | 4,000
(3)—in paragraph (3) | 600 12,625 | 625 13,400
(4)—in paragraph (4) | 1,600 | 1,700
(5)—in paragraph (5) | 1,250 11,850 | 1,325 12,575
(6)—in paragraph (6) | 2,375 | 2,525
(7)—in paragraph (8) | 12,625 | 13,400
(8)—in paragraph (11)(D) | 23,675 | 25,150
Section 522(f)(3)—exception to lien avoidance under certain state laws | 6,425 | 6,825
Section 522(f)(4)—items excluded from definition of household goods for lien avoidance purposes | (*) 675 | (*) 725
Section 522(n)—maximum aggregate value of assets in individual retirement accounts exempted | 1,283,025 | 1,362,800
Section 522(p)—qualified homestead exemption | 160,375 | 170,350
Section 522(q)—state homestead exemption | 160,375 | 170,350
Section 523(a)(2)(C)—exceptions to discharge
(1)—in paragraph (i)(I)—consumer debts for luxury goods or services incurred < 90 days before filing owed to a single creditor in the aggregate | 675 | 725
(2)—in paragraph (i)(II)—cash advances incurred < 70 days before filing in the aggregate | 950 | 1,000
Section 541(b)—property of the estate exclusions
(1)—in paragraph (5)(C)—education IRA funds in the aggregate | 6,425 | 6,825
(2)—in paragraph (6)(C)—pre-purchased tuition credits in the aggregate | 6,425 | 6,825
(3)—in paragraph (10)(C)—qualified ABLE program funds in the aggregate | 6,425 | 6,825
Section 547(c)(9)—preferences, trustee may not avoid a transfer if, in a case filed by a debtor whose debts are not primarily consumer debts, the aggregate value of property is less than | 6,425 | 6,825
Section 707(b)—dismissal of a chapter 7 case or conversion to chapter 11 or 13 (means test)
(1)—in paragraph (2)(A)(i)(I) | 7,700 | 8,175
(2)—in paragraph (2)(A)(i)(II) | 12,850 | 13,650
(3)—in paragraph (2)(A)(ii)(IV) | 1,925 | 2,050
(4)—in paragraph (2)(B)(iv)(I) | 7,700 | 8,175
(5)—in paragraph (2)(B)(iv)(II) | 12,850 | 13,650
(6)—in paragraph (5)(B) | 1,300 | 1,375
(7)—in paragraph (6)(C) | 700 | 750
(8)—in paragraph (7)(A)(iii) | 700 | 750
Section 1322(d)—contents of chapter 13 plan, monthly income | (*) 700 | (*) 750
Section 1325(b)—chapter 13 confirmation of plan, disposable income | (*) 700 | (*) 750
Section 1326(b)(3)—payments to former chapter 7 trustee | 25 | 25
¹ The New (Adjusted) Dollar Amounts reflect a 6.218 percent increase, rounded to the nearest $25.
* Each time it appears.

[FR Doc. 2019-01903 Filed 2-11-19; 8:45 am]

BILLING CODE 2210-55-P